DEPARTMENT OF COMMERCE

National Oceanic and Atmospheric Administration

[I.D. 022001D]

Mid-Atlantic Fishery Management Council; Public Meeting

AGENCY: National Marine Fisheries Service (NMFS), National Oceanic and Atmospheric Administration (NOAA), Commerce.

ACTION: Notice of public meeting.

SUMMARY: The Mid-Atlantic Fishery Management Council's (Council) Habitat Committee and Habitat Advisory Panel will hold a public meeting.

DATES: The meeting will be held on Monday, March 12, 2001, from 10 a.m. until 5 p.m.

ADDRESSES: This meeting will be held at the Renaissance Philadelphia Hotel Airport, 500 Stevens Drive, Philadelphia, PA; telephone: 610-521-5900.

Council address: Mid-Atlantic Fishery Management Council, Room 2115, 300 S. New Street, Dover, DE 19904.

FOR FURTHER INFORMATION CONTACT: Daniel T. Furlong, Executive Director, Mid-Atlantic Fishery Management Council; telephone: 302-674-2331, ext. 19.

SUPPLEMENTARY INFORMATION: The purpose of this meeting is to initiate development of Council policy and guidelines for species fishery management plan (FMP) committees to draw upon to investigate the use of marine protected areas (MPAs) as a management tool, and to develop a framework that requires mandatory coordination with the Council for any MPAs in the mid-Atlantic exclusive economic zone (EEZ) waters. It will also address essential fish habitat (EFH) requirements regarding the Council’s current FMPs and proposed amendments thereto.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Joanna Davis at the Council (see ADDRESSES) at least 5 days prior to the meeting date.

Dated: February 20, 2001.
Richard W. Surdi,
Acting Director, Office of Sustainable Fisheries, National Marine Fisheries Service.

[FR Doc. 01-4694 Filed 2-26-01; 8:45 am]

BILLING CODE 3510-22 -S